OFFICE OF MANAGEMENT AND BUDGET

Technical Support Document: Technical Update of the Social Cost of Carbon for Regulatory Impact Analysis Under Executive Order No. 12866

AGENCY: Executive Office of the President, Office of Management and Budget.

ACTION: Notice of extension of public comment period.

SUMMARY: On November 26, 2013, the Office of Management and Budget (OMB) invited public comments on the Technical Support Document entitled Technical Update of the Social Cost of Carbon for Regulatory Impact Analysis Under Executive Order 12866. That request may be found at 78 FR 70586. This notice extends the public comment period for another 30 days.

OMB requests that comments be submitted electronically to OMB by February 26, 2014 through www.regulations.gov.

DATES: The ongoing public comment period that opened on November 26, 2013 will remain open until February 26, 2014.

ADDRESSES: Submit comments by one of the following methods:

• www.regulations.gov: Direct comments to Docket ID OMB-OMB-2013-0007

• Email: SCC@omb.eop.gov [Please note that this is a corrected email address.]

• Fax: (202) 395-7285

• Mail: Office of Information and Regulatory Affairs, Office of Management and Budget, Attn: Mabel Echols, NEOB, Room 10202, 725 17th Street NW., Washington, DC 20503. To ensure that your comments are received, we recommend that comments be electronically submitted.

All comments and recommendations submitted in response to this notice will be made available to the public. For this reason, please do not include in your comments information of a confidential nature, such as sensitive personal information or proprietary information. The www.regulations.gov Web site is an “anonymous access” system, which means OMB will not know your identity or contact information unless you provide it in the body of your comment.

FOR FURTHER INFORMATION CONTACT: Mabel Echols, Office of Information and Regulatory Affairs, Office of Management and Budget, NEOB, Room 10202, 725 17th Street NW., Washington, DC 20503. Telephone: (202) 395-3741.

SUPPLEMENTARY INFORMATION: The Social Cost of Carbon (SCC) is used to estimate the value to society of marginal reductions in carbon emissions. The Technical Support Document (TSD), available at: http://www.whitehouse.gov/sites/default/files/omb/assets/inforeg/technical-update-social-cost-of-carbon-for-regulator-impact-analysis.pdf, explains the derivation of the SCC estimates using three peer reviewed integrated assessment models and provides updated values of the SCC that reflect minor technical corrections to the estimates released in May of 2013. In order to allow commenters adequate time to review the TSD and related information in the scientific literature that they may wish to consider to inform their comments, OMB is extending the comment period by 30 days.

Howard A. Shelanski,
Administrator, Office of Information and Regulatory Affairs.

[FR Doc. 2014-01605 Filed 1-23-14; 4:15 pm]

BILLING CODE P